DEPARTMENT OF HEALTH AND HUMAN SERVICES

Administration for Children and Families

Agency Recordkeeping/Reporting Requirements Under Emergency Review by the Office of Management and Budget (OMB)

Title: Survey of State Practices and Policies Regarding Participation of Children in Foster Care in Clinical Drug Trials.

OMB No.: New Request.

Description: The Administration for Children and Families is requesting State child welfare agencies to voluntarily complete a survey to ascertain States' policies and practices related to children in foster care participating in clinical drug trials. This information collection is in response to a Congressional inquiry.

Respondents: State child welfare agencies.

Annual Burden Estimates:

Instrument | Number of respondents | Number of responses per respondent | Average burden hour per response | Total burden hours
Survey | 52 | 1 | 2 | 104

Estimated Total Annual Burden Hours: 104 hours.

Additional Information: ACF is requesting that OMB grant a 90-day approval for this information collection under procedures for emergency processing by May 18, 2005. A copy of this information collection, with applicable supporting documentation, may be obtained by calling Greta Johnson at the Administration for Children and Families at (202) 401-9384. In addition, a request may be made by sending an e-mail request to: grjohnson@acf.hhs.gov.

Comments and questions about the information collection described above should be directed to the following address by May 18, 2005: Office of Information and Regulatory Affairs, Office of Management and Budget, Paperwork Reduction Project, Desk Officer for ACF, Attention E-mail: Katherine_T._Astrich@omb.eop.gov.

Dated: May 12, 2005.
Robert Sargis,
Reports Clearance Officer.

[FR Doc. 05-9911 Filed 5-17-05; 8:45 am]

BILLING CODE 4184-01-M